ENVIRONMENTAL PROTECTION AGENCY

[ER-FRL-6678-5]

Environmental Impacts Statements; Notice of Availability

Responsible Agency: Office of Federal Activities, General Information (202) 564-7167 or http://www.epa.gov/compliance/nepa/.

Weekly receipt of Environmental Impact Statements

Filed 08/14/2006 Through 08/17/2006

Pursuant to 40 CFR 1506.9.

EIS No. 20060344, Final EIS, AFS, AZ,Deep Lake Allotment Project, Proposes to Re-authorize Grazing, Mormon Lake Ranger District, Coconino National District, Coconino County, AZ , Wait Period Ends: 09/25/2006, Contact: Katherine Sanchez Meador 928-526-0866.

EIS No. 20060345, Draft EIS, AFS, WA, Buckhorn Access Project, To Utilize the Marias Creek Route to Construct and Reconstruct Roads, Funding, NPDES Permit and U.S. Army COE Section 404 Permit, Okanogan and Wenatchee National Forests, Tonasket Ranger District, Okanogan County, WA, Comment Period Ends: 10/10/2006, Contact: Jan Flatten 509-826-3277.

EIS No. 20060346, Final EIS, SFW, CA, San Diego Bay National Wildlife Refuge Comprehensive Conservation Plan, Implementation, Sweetwater Marsh and South San Diego Bay Units, San Diego County, CA, Wait Period Ends: 09/25/2006, Contact: Victoria Touchstone 760-431-9440 Ext. 349.

EIS No. 20060347, Draft EIS, BLM, ID, Cottonwood Resource Management Plan, Implementation, Latah, Clearwater, Nez Perce, Lewis, Idaho and Adams Counties, ID, Comment Period Ends: 11/22/2006, Contact: Chuck Dillon 208-962-3686.

EIS No. 20060348, Draft EIS, NPS, MN, Disposition of Bureau of Mines Property, Twin Cities Research Center Main Campus, Implementation, Hennepin County, MN, Comment Period Ends: 10/09/2006, Contact: Kim M. Berns 651-290-3030 Ext. 244.

EIS No. 20060349, Draft EIS, DOE, FL, Orlando Gasification Project (DOE/EIS-0383) To Provide Cost-Shared Funding for Construction and Operation of Facilities at Orlando Utilities Commission's Station Energy Center near Orlando, FL, Comment Period Ends: 10/10/2006, Contact: Richard A. Hargis 412-386-6065.

EIS No. 20060350, Final EIS, BLM, AK, Ring of Fire Resource Management Plan, Implementation, Alaska Peninsula, Kodiak Island and Aleutian Islands, AK, Wait Period Ends: 09/25/2006, Contact: Robert Lloyd 907-267-1246.

EIS No. 20060351, Final EIS, FRC, 00, Carthage to Perryville Project, Construction and Operation of a Natural Gas Pipeline Facilities, CenterPoint Energy Gas Transmission, Located in various counties and parishes in eastern Texas and northern Louisiana, Wait Period Ends: 09/25/2006, Contact: Todd Selmak 1-866-208-3372.

Dated: August 22, 2006.
Ken Mittelholtz,
Environmental Protection Specialist, Office of Federal Activities.

[FR Doc. E6-14145 Filed 8-24-06; 8:45 am]

BILLING CODE 6560-50-P